DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request the Office of Management and Budget (OMB) to allow the proposed information collection: “Voluntary Customer Surveys of ‘Partners’ for the Agency for Healthcare Research and Quality.” In accordance with the Paperwork Reduction Act of 1995, Public Law 104-13 (44 U.S.C. 3506(c)(2)(A)), AHRQ invites the public to comment on this proposed information collection request to allow AHRQ to conduct these customer satisfaction surveys.

This proposed information collection was previously published in the Federal Register on September 21, 2001 and allowed 60 Days for public comment.

No public comments were received. The purpose of this notice is to allow an additional 30 Days of public comment.

DATES: Comments on this notice must be received by January 14, 2002.

ADDRESSES: Written comments should be submitted to: Allison Eydt, Human Resources and Housing Branch, Office of Information and Regulatory Affairs, OMB: New Executive Office Building, Room 10235; Washington, DC 20503.

Comments submitted in response to this notice will be summarized and included in the request for OMB approval of the proposed information collection. All comments will become a matter of public record.

FOR FURTHER INFORMATION CONTACT: Cynthia D. McMichael, AHRQ, Reports Clearance Officer, (301) 594-3132.

SUPPLEMENTARY INFORMATION:

Proposed Project

Voluntary Customer Surveys of “Partners” for the Agency for Healthcare Research and Quality.

In response to Executive Order 12862, the Agency for Healthcare Research and Quality (AHRQ) plans to conduct voluntary customer surveys of “partners” to identify how well AHRQ is performing its functions with its partners and to use this information to determine the kind and quality of services they like and expect, their level of satisfaction with existing services, and to implement improvements where feasible and practical.

AHRQ partners are typically health care payers, plans, practitioners and providers, researchers, professional associations, AHRQ data suppliers, and State and local governments, as well as persons or entities that provide service to the public for AHRQ, e.g., dissemination of AHRQ publications by a “middle man” such as a professional society.

Partner surveys to be conducted by AHRQ may include surveys of research grantees to measure satisfaction with technical assistance received from AHRQ. The questions asked may include whether there is a need for extended hours to answer inquiries related to grant applications or for the development of a comprehensive manual on submission of grant applications. In addition, AHRQ wants to survey individual recipients of training grants to evaluate their experience with AHRQ training grant programs. Similarly, the Office of Health Care Information (OHCI) is proposing to survey researchers to determine how AHRQ could better serve the research community. Results of these surveys will be used to assess and redirect resources and efforts needed to improve services.

Method of Collection

The data will be collected using a combination of preferred methodologies appropriate to each survey. These methodologies are:

• Mail and telephone surveys;

• Electronic technologies; and

• Focus groups.

The estimated annual hour burden is as follows:

Type of survey | Number of respondents | Average burden/response in minutes | Total hours of burden
Mail/Telephone Surveys/Electronic Technologies | 9,400 | 20 | 3,133.3
Focus Groups | 700 | 97.7 | 1140
Totals | 10,100 | 25.4 | 4,273.3

Request for Comments

In accordance with the above cited Paperwork Reduction Act legislation, comments on this AHRQ information collection proposals are requested with regard to any of the following: (a) Whether the proposed collection of information is necessary for the proper performance of functions of the Agency, including whether the information will have practical utility; (b) the accuracy of the Agency's estimate of burden (including hours and cost) of the proposed collection of information; (c) ways to enhance the quality, utility and clarity of the information to be collected; and (d) ways to minimize the burden of the collection of information upon the respondents, including the use of automated collection techniques or other forms of information technology. Comments submitted in response to this notice will be summarized and included in the request for OMB approval of the proposed information collection. All comments will become a matter of public record. Copies of the proposed collection plans and can be obtained from the AHRQ Reports Clearance Officer (see above).

Dated: December 10, 2001.
John M. Eisenberg,
Director.

[FR Doc. 01-30850 Filed 12-13-01; 8:45 am]

BILLING CODE 4160-90-M